DEPARTMENT OF DEFENSE

Office of the Secretary

[Docket ID DoD-2008-OS-0133]

Privacy Act of 1974; System of Records

AGENCY: Office of the Secretary, DoD.

ACTION: Notice to amend a system of records notice.

SUMMARY: The Office of the Secretary of Defense is amending a system of records notice in its existing inventory of record systems subject to the Privacy Act of 1974, (5 U.S.C. 552a), as amended.

DATES: This proposed action will be effective without further notice on December 12, 2008 unless comments are received which result in a contrary determination.

ADDRESSES: Send comments to the Privacy Act Officer, Office of Freedom of Information, Washington Headquarters Services, 1155 Defense Pentagon, Washington, DC 20301-1155.

FOR FURTHER INFORMATION CONTACT: Mrs. Cindy Allard at (703) 588-2386.

SUPPLEMENTARY INFORMATION: The Office of the Secretary of Defense systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: November 3, 2008.
Morgan E. Frazier,
Alternate OSD Federal Register Liaison Officer, Department of Defense.

DWHS E04

System name:

Privacy Act Case Files.

Changes:

* * * * *

System location:

Delete entry and replace with “Washington Headquarters Services records: Freedom of Information Division, Executive Services Directorate, Washington Headquarters Services, 1155 Defense Pentagon, Washington, DC 20301-1155.

DoD Educational Activity Records: Department of Defense Education Activity, Privacy Act Office, Executive Services Offices, Office of the Chief of Staff, 4040 North Fairfax Drive, Arlington, VA 22203-1634.”

Categories of individuals covered by the system:

Delete entry and replace with “All persons who have requested documents and/or appeals under the provisions of the Privacy Act (PA); and attorneys representing individuals submitting such requests.”

* * * * *

Authority for maintenance of the system:

Delete entry and replace with “5 U.S.C. 301, Departmental Regulations; 5 U.S.C. 552a, The Privacy Act of 1974, as amended; DoD 5400.11-R, Department of Defense Privacy Program; Administrative Instruction 81, Privacy Program; 10 U.S.C. 2164, Department of Defense Domestic Dependent Elementary and Secondary Schools; 20 U.S.C. 921-932, Overseas Defense Dependent's Education; DoD Directive 1342.20 Department of Defense Education Activity and E.O. 9397 (SSN).”

* * * * *

System manager(s) and address:

Delete entry and replace with “For Washington Headquarters Services records: OSD/JS Privacy Office, Office of Freedom of Information, Executive Services Directorate, Washington Headquarters Services, 1155 Defense Pentagon, Washington, DC 20301-1155.

For DoD Education Activity records: Department of Defense Education Activity, Privacy Office, Executive Services Office, Office of the Chief of Staff, 4040 North Fairfax Drive, Arlington, VA 22203-1634.”

Notification procedure:

Delete entry and replace with “Individuals seeking to determine whether information about themselves is contained in this system of records should address written inquiries to:

For Washington Headquarters Services records: Chief, OSD/JS Privacy Office, Office of Freedom of Information, Executive Services Directorate, Washington Headquarters Services, 1155 Defense Pentagon, Washington, DC 20301-1155.

For DoD Education Activity records: Department of Defense Education Activity, Privacy Act Office, Executive Services Office, Office of the Chief of Staff, 4040 North Fairfax Drive, Arlington, VA 22203-1634.

Written requests should include the individual's name.”

Record access procedures:

Delete entry and replace with “Individuals seeking to access their record should address written inquiries to:

For Washington Headquarters Services records: OSD/JS Freedom of Information Requester Service Center, Office of Freedom of Information, Executive Services Directorate, Washington, Headquarters Services, 1155 Defense Pentagon, Washington, DC 20301-1155.

For DoD Education Activity records: Department of Defense Education Activity, Privacy Act Office, Executive Services Office, Office of the Chief of Staff, 4040 North Fairfax Drive, Arlington, VA 22203-1634.

Requests for access must include this System of Record Notice name and number, be in writing, signed, and provide evidence of the requester's identity such as a copy of a photo ID or passport or similar document bearing the requester's signature. Additionally for DoD Education Activity records: if a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child.”

* * * * *

DWHS E04

System name:

Privacy Act Case Files.

System location:

Washington Headquarters Services records: Freedom of Information Division, Executive Services Directorate, Washington Headquarters Services, 1155 Defense Pentagon, Washington, DC 20301-1155.

DoD Educational Activity Records: Department of Defense Education Activity, Privacy Act Office, Executive Services Offices, Office of the Chief of Staff, 4040 North Fairfax Drive, Arlington, VA 22203-1634.

Categories of individuals covered by the system:

All persons who have requested documents and/or appeals under the provisions of the Privacy Act (PA); and attorneys representing individuals submitting such requests.

Categories of records in the system:

Records created or compiled in response to Privacy Act requests and administrative appeals, i.e.; original and copies of requests and administrative appeals; responses to such requests and administrative appeals; all related memoranda, correspondence, notes, and other related or supporting documentation.

Authority for maintenance of the system:

5 U.S.C. 301, Departmental Regulations; 5 U.S.C. 552a, The Privacy Act of 1974, as amended; DoD 5400.11-R, Department of Defense Privacy Program; Administrative Instruction 81, Privacy Program; 10 U.S.C. 2164, Department of Defense Domestic Dependent Elementary and Secondary Schools; 20 U.S.C. 921-932, Overseas Defense Dependent's Education; DoD Directive 1342.20 Department of Defense Education Activity and E.O. 9397 (SSN).

Purpose(s):

Information is being collected and maintained for the purpose of processing Privacy Act requests and administrative appeals; for participating in litigation regarding agency action on such requests and appeals; and for assisting the Department of Defense in carrying out any other responsibilities under the Privacy Act of 1974.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Paper records in file folders and electronic storage media.

Retrievability:

By name and/or request number.

Safeguards:

Records are maintained in security containers with access only to officials whose access is based on requirements of assigned duties. Computer databases are password protected and accessed by individuals who have a need-to-know.

Retention and disposal:

Responses granting access to all the requested records, destroy 2 years after the date of reply. Responding to requests for nonexistent records; to requesters who provide inadequate descriptions; and to those who fail to pay agency reproduction fees; destroy requests not appealed 2 years after date of reply; destroy appealed requests in accordance with the approved disposition instructions for related subject individual's records or 3 years after final adjudication by the courts, whichever is later. Responses denying access to all or part of the records requested, destroy requests not appealed 5 years after date of reply.

System manager(s) and address:

For Washington Headquarters Services records: OSD/JS Privacy Office, Office of Freedom of Information, Executive Services Directorate, Washington Headquarters Services, 1155 Defense Pentagon, Washington, DC 20301-1155.

For DoD Education Activity records: Department of Defense Education Activity, Privacy Office, Executive Services Office, Office of the Chief of Staff, 4040 North Fairfax Drive, Arlington, VA 22203-1634.

Notification procedure:

Individuals seeking to determine whether information about themselves is contained in this system of records should address written inquiries to:

For Washington Headquarters Services records: Chief, OSD/JS Privacy Office, Office of Freedom of Information, Executive Services Directorate, Washington Headquarters Services, 1155 Defense Pentagon, Washington, DC 20301-1155.

For DoD Education Activity records: Department of Defense Education Activity, Privacy Act Office, Executive Services Office, Office of the Chief of Staff, 4040 North Fairfax Drive, Arlington, VA 22203-1634.

Written requests should include the individual's name.

Record access procedures:

Individuals seeking to access their record should address written inquiries to:

For Washington Headquarters Services records: OSD/JS Freedom of Information Requester Service Center, Office of Freedom of Information, Executive Services Directorate, Washington Headquarters Services, 1155 Defense Pentagon, Washington, DC 20301-1155.

For DoD Education Activity records: Department of Defense Education Activity, Privacy Act Office, Executive Services Office, Office of the Chief of Staff, 4040 North Fairfax Drive, Arlington, VA 22203-1634.

Requests for access must include this System of Record Notice name and number, be in writing, signed, and provide evidence of the requester's identity such as a copy of a photo ID or passport or similar document bearing the requester's signature. Additionally for DoD Education Activity records: if a parent or legal guardian is requesting records pertaining to his or her minor child or ward, he/she must also provide evidence of that relationship. For example, the parent may provide a copy of the child's school enrollment form signed by the parent, or copy of a divorce decree or travel order that includes the child's name, or an order of guardianship, or a declaration stating that he/she is the parent or legal guardian of the minor or incapacitated child.

Contesting record procedures:

The OSD rules for accessing records, for contesting contents and appealing initial agency determinations are published in OSD Administrative Instruction 81; 32 CFR part 311; or may be obtained from the system manager.

Record source categories:

Those individuals who submit initial requests and administrative appeals pursuant to the Privacy Act; the agency records searched in the process of responding to such requests and appeals; Department of Defense personnel assigned to handle such requests and appeals; other agencies or entities that have referred to the Department of Defense requests concerning Department of Defense records, or that have consulted with the Department of Defense regarding the handling of particular requests; and submitters or subjects of records or information that have provided assistance to the Department of Defense in making access or amendment determinations.

Exemptions claimed for the system:

During the course of a Privacy Act (PA) action, exempt materials from other systems of records may become part of the case records in this system of records. To the extent that copies of exempt records from those ‘other’ systems of records are entered into these PA case records, Washington Headquarters Services hereby claims the same exemptions for the records as they have in the original primary systems of records which they are a part.

An exemption rule for this system has been promulgated in accordance with requirements of 5 U.S.C. 553(b)(1), (2), and (3), (c), and (e) and published in 32 CFR part 311. For additional information contact the system manager.

[FR Doc. E8-26761 Filed 11-10-08; 8:45 am]

BILLING CODE 5001-06-P